DEPARTMENT OF HEALTH AND HUMAN SERVICES

Administration for Children and Families

Proposed Information Collection Activity; Regional Partnership Grants National Cross-Site Evaluation and Evaluation Technical Assistance (Office of Management and Budget #0970-0527)

AGENCY: Children's Bureau, Administration for Children and Families, Department of Health and Human Services.

ACTION: Request for public comments.

SUMMARY: The Children's Bureau (CB), Administration for Children and Families (ACF), Administration for Children, Youth and Families (ACYF), U.S. Department of Health and Human Services (HHS), is requesting an extension with changes to the approved information collection: Regional Partnership Grants (RPG) National Cross-Site Evaluation and Evaluation Technical Assistance (Office of Management and Budget (OMB) #0970-0527). The proposed information collection will be used in a national cross-site evaluation of the seventh cohort of CB's RPG. The cross-site evaluation will use a survey, interviews, focus groups, and data on participant enrollment, services, and outcomes.

DATES: Comments due March 3, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Child and Family Services Improvement Act of 2006 (Public Law 109-288) amended Section 437 of the Social Security Act (42 U.S.C. 629g[f]) and authorized HHS, ACF, ACYF, and CB to fund discretionary grants to improve safety, well-being, and permanency outcomes for children at risk of or in out-of-home placement because of their caregiver's substance misuse. In response, HHS launched a competitive grants program called “Targeted Grants to Increase the Well-Being of, and to Improve the Permanency Outcomes for, Children Affected by Methamphetamine and Other Substance Abuse,” which is also known as the RPG program. Reauthorized in 2011 and again most recently by the Bipartisan Budget Act of 2018 (Public Law 115-123) in 2018, these grants are designed to support partnerships between child welfare agencies, substance use disorder treatment organizations, and other social services systems, and thereby improve the well-being, permanency, and safety outcomes of children and families. Under six prior rounds of RPG, CB has issued 109 grants to organizations such as child welfare or substance use treatment providers or family court systems to develop interagency collaborations and integration of programs, activities, and services designed to increase well-being, improve permanency, and enhance the safety of children who are in an out-of-home placement or at risk of being placed in out-of-home care as a result of a parent's or caretaker's substance misuse. In 2022, CB awarded 18 grants to a seventh cohort (RPG7). The current request is for data collection activities associated with the 18 RPG7 grantees. Data collection for the first three cohorts was approved under OMB Control Numbers 0970-0353 and 0970-0444. Data collection for the fourth, fifth, and sixth cohorts were approved under this OMB Control Number (0970-0527).

The RPG cross-site evaluation will extend the understanding about how RPG programs and services may improve outcomes for children and families. First, the cross-site evaluation will assess the coordination of partners' service systems with an emphasis on the partnership between the child welfare and substance use treatment agencies, to add to the research base about how these agencies can collaborate to address the needs of children and families affected by substance misuse (partnerships analysis). Second, the evaluation will describe the experiences of adult participants enrolled in RPG services, such as their motivations for enrollment and satisfaction with services received (participant experiences analysis). Third, the evaluation will summarize supports within the partnership that can help improve and sustain RPG services, such as using data for service improvement, identifying a lead organization, and securing funding sources after grant funding ends (sustainability analysis). Fourth, the evaluation will describe the characteristics of participants served by RPG programs, the types of services provided to families, the dosage of each type of service received by families, and the level of participant engagement with the services provided (enrollment and services analysis). Finally, the evaluation will assess the outcomes of children and adults served through the RPG program, such as child behavioral problems, adult depressive symptoms, or adult substance use and treatment (outcomes and impacts analysis).

For cohort seven, CB is requesting an extension of most of the currently approved information collections (most recently approved in April 2022) with no changes, the removal of two approved data collections, and the addition of three new instruments. This will allow CB to continue obtaining participant data from grantees that they collect for their local evaluations, and for directly collecting additional data from grantees and their partners and providers for the cross-site evaluation. Specifically, this request:

• Removes the currently approved semi-annual progress reports, as they are now covered under a separate OMB package (0970-0490) and removes the partnership survey which will not be administered to the RPG7 grantees.

• Adds data collection of interviews and focus groups with participants enrolled in RPG services which for the first time will allow the cross-site evaluation to include participants' own voices to describe their experiences receiving services.

• Continues approval of all other information collections approved under this OMB control number (Currently approved instruments available here: https://www.reginfo.gov/public/do/PRAICList?ref_nbr=202302-0970-003)

Overall, this request includes following data collection activities: (1) site visits with grantees, (2) individual interviews and focus groups with participants enrolled in RPG services (3) a web-based survey about sustainability planning, (4) enrollment and services data provided by grantees, and (5) outcomes and impacts data provided by grantees.

Respondents: Respondents include grantee staff or contractors (such as local evaluators) and partner staff from the 18 RPG7 grantees, and 64 adult participants enrolled in RPG services. Specific types of respondents and the expected number per data collection effort are noted in the burden table below.

Annual Burden Estimates
Data collection activity | Total number of respondents | Number of responses per respondent (each year) | Average burden hours per response (in hours) | Total annual burden hours
Site Visit and Key Informant Data Collection
Program director individual interview | 18 | 0.33 | 2 | 12
Program manager/supervisor individual interviews | 18 | 0.33 | 1 | 6
Frontline staff interviews | 36 | 0.33 | 1 | 12
Partner representative interviews | 54 | 0.33 | 1 | 18
Individual interviews with participants enrolled in RPG services | 16 | 0.33 | 2 | 11
Focus groups with participants enrolled in RPG services | 48 | 0.33 | 1.5 | 24
Sustainability survey | 126 | 0.33 | 0.33 | 14
Enrollment, client, and service data
Case enrollment data | 54 | 33 | 0.25 | 446
Case closure | 54 | 33 | 0.02 | 36
Case closure-prenatal | 18 | 10 | 0.02 | 4
Service log entries | 108 | 1,560 | 0.03 | 5,054
Outcome and impact data
Administrative Data
Obtain access to administrative data ᵃ | 9 | 0.33 | 220 | 330
Report administrative data | 18 | 2 | 81 | 2,916
Standardized instruments
Enter data into local database ᵃ | 18 | 100 | 1.25 | 1,125
Review records and submit | 18 | 2 | 25 | 900
Data entry for comparison study sites (14 sites) ᵃ | 14 | 100 | 1.25 | 875
Estimated Totals |  |  |  | 11,783
ᵃ Data are used for site-level evaluations conducted by the grantees. To account for added data preparation steps needed to share data with the cross-site evaluation, burden hour estimates assume that only half of this burden is part of the cross-site evaluation.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Child and Family Services Improvement Act of 2006 (Public Law 109-288) created the competitive RPG program. The September 30, 2011, passage of the Child and Family Services Improvement and Innovation Act (Public Law 112-34) extended funding for the RPG program from federal fiscal year (FFY) 2012 to FFY 2016. In 2018, the president signed the Bipartisan Budget Act of 2018 (Public Law 115-123) into law, reauthorizing the RPG program through FFY 2021 and adding a focus on opioid abuse.

Mary C. Jones,
ACF/OPRE Certifying Officer.

[FR Doc. 2024-31132 Filed 12-30-24; 8:45 am]

BILLING CODE 4184-01-P